DEPARTMENT OF ENERGY

Federal Energy Regulatory Commission

[Docket No. RP02-132-009]

Viking Gas Transmission Company; Notice of Compliance Filing

November 22, 2005.

Take notice that on November 17, 2005, Viking Gas Transmission Company (Viking) tendered for filing to become part of its FERC Gas Tariff, First Revised Volume No. 1, the tariff sheets attached to the filing, to become effective on January 1, 2006.

Viking states that the purpose of this filing is to comply with Article XIII of the Stipulation and Agreement (Settlement) in Docket No. RP02-132-002 approved by Letter Order dated November 8, 2002. Article XIII of the Settlement provides that Viking would file to cancel Rate Schedule FT-D and remove all references to service under this rate schedule upon completion of Stage 4 of the rolled-in rate treatment of its expansion facilities approved by the Commission in Docket No. RP98-761-000. Accordingly, Viking is proposing herein to implement rates reflecting Stage 4 of the rolled-in rate treatment to be effective on January 1, 2006 and to delete all references to Rate Schedule FT-D.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-6685 Filed 11-29-05; 8:45 am]

BILLING CODE 6717-01-P